DEPARTMENT OF COMMERCE

International Trade Administration

[A-533-824]

Notice of Final Results of Antidumping Duty Changed Circumstances Review: Polyethylene Terephthalate Film, Sheet and Strip from India

AGENCY: Import Administration, International Trade Administration, Department of Commerce.

SUMMARY: The Department of Commerce (the Department) received no comments in response to its preliminary determination that Jindal Poly Films Limited (Jindal Poly Films) is the successor-in-interest to Jindal Polyester Limited (Jindal Polyester). In these final results of review, we have continued to find Jindal Poly Films to be the successor-in-interest to Jindal Polyester.

EFFECTIVE DATE: May 20, 2005.

FOR FURTHER INFORMATION CONTACT: Jeffrey Pedersen or Kavita Mohan, AD/CVD Operations, Office 4, Import Administration, International Trade Administration, U.S. Department of Commerce, 14th Street and Constitution Avenue, NW., Washington, DC 20230; telephone (202) 482-2769 and (202) 482-3542, respectively.

SUPPLEMENTARY INFORMATION:

Background

On April 22, 2005, the Department published a notice of preliminary results of its changed circumstances review of the antidumping duty order on polyethylene terephthalate film, sheet and strip (PET film) from India in which it preliminarily determined that Jindal Poly Films is the successor-in-interest to Jindal Polyester. See Notice of Preliminary Results of Antidumping Duty Changed Circumstances Review: Polyethylene Terephthalate Film, Sheet and Strip from India 70 FR 20863 (April 22, 2005) (Preliminary Results). We invited interested parties to comment on these findings. On April 19, 2005, and April 20, 2005, Jindal Poly Films and petitioners,¹ respectively, submitted letters in which they notified the Department that they would not file comments on the Preliminary Results.

Scope of the Order

The products covered by this order are all gauges of raw, pretreated, or primed PET film, whether extruded or coextruded. Excluded are metallized films and other finished films that have had at least one of their surfaces modified by the application of a performance-enhancing resinous or inorganic layer of more than 0.00001 inches thick. Imports of PET film are classifiable in the Harmonized Tariff Schedule of the United States (HTSUS) under item number 3920.62.00. HTSUS subheadings are provided for convenience and customs purposes. The written description of the scope of this order is dispositive.

¹ The petitioners are Dupont Teijin Films, Mitsubishi Polyester Film of America, and Toray Plastics (America), Inc.

Final Results of Changed Circumstances Review

Given that we received no comments from interested parties on the Preliminary Results, and for the reasons stated in the Preliminary Results, we find Jindal Poly Films to be the successor-in-interest to Jindal Polyester for antidumping duty cash deposit purposes. We will instruct U.S. Customs and Border Protection to suspend shipments of subject merchandise made by Jindal Poly Films, entered, or withdrawn from warehouse, for consumption on or after the date of publication of the final results of this changed circumstances review at Jindal Polyester's antidumping duty cash deposit rate. See Granular Polytetrafluoroethylene Resin from Italy; Final Results of Antidumping Duty Changed Circumstances Review, 68 FR 25327 (May 12, 2003). This deposit rate shall remain in effect until publication of the final results of the next antidumping duty administrative review in which Jindal Poly Films participates.

We are issuing and publishing this determination and notice in accordance with sections 751(b)(1) and 777(i)(1) of the Tariff Act of 1930, as amended, and section 351.216(e) of the Department's regulations.

Dated: May 12, 2005.
Joseph A. Spetrini,
Acting Assistant Secretary for Import Administration.

[FR Doc. E5-2523 Filed 5-19-05; 8:45 am]

BILLING CODE 3510-DS-S